DEPARTMENT OF AGRICULTURE

Forest Service

Eastern Washington Cascades Provincial Advisory Committee and the Yakima Provincial Advisory Committee

AGENCY: Forest Service, USDA.

ACTION: Notice of Meeting.

SUMMARY: The Eastern Washington Cascades Provincial Advisory Committee and the Yakima Provincial Advisory Committee that had been scheduled to meet on April 12, 2012 from 9 a.m. to 3 p.m. at the Washington State Parks office, 270 9th Street NE., East Wenatchee, WA has been replaced with an open public meeting. During this public meeting information will be shared about the Forest Service Chief's 10-Year Stewardship Challenge, Yakima River Basin Integrated Water Resource Management Plan, Holden Mine Remediation progress, and an update on the Forest Plan Revision. This meeting is open to the public.

FOR FURTHER INFORMATION CONTACT: Direct questions regarding this meeting to Clint Kyhl, Designated Federal Official, USDA, Okanogan-Wenatchee National Forest, 215 Melody Lane, Wenatchee, Washington 98801, phone 509-664-9200.

Dated: April 3, 2012.
Clinton Kyhl,
Designated Federal Official, Okanogan-Wenatchee National Forest.

[FR Doc. 2012-8596 Filed 4-9-12; 8:45 am]

BILLING CODE 3410-11-P